SECURITIES AND EXCHANGE COMMISSION

[File No. 500-1]

U.S. Canadian Minerals, Inc.; Order of Suspension of Trading

August 12, 2009.

It appears to the Securities and Exchange Commission that there is a lack of current and accurate information concerning the securities of U.S. Canadian Minerals, Inc. (OTC Bulletin Board symbol: USCN), a Nevada corporation. Questions have been raised about the accuracy and adequacy of publicly disseminated information concerning, among other things, U.S. Canadian Minerals' liabilities, stock issuances, recent merger transaction, business prospects, and recently acquired purported assets.

The Commission is of the opinion that the public interest and the protection of investors require a suspension of trading in the securities of U.S. Canadian Minerals, Inc.

Therefore, it is ordered, pursuant to Section 12(k) of the Securities Exchange Act of 1934, that trading in the securities of the above-listed company is suspended for the period from 9:30 a.m. EDT, August 12, 2009, through 11:59 p.m. EDT, on August 25, 2009.

By the Commission.
Florence E. Harmon,
Deputy Secretary.

[FR Doc. E9-19627 Filed 8-12-09; 4:15 pm]

BILLING CODE 8010-01-P